DEPARTMENT OF THE INTERIOR

Office of the Secretary

Privacy Act of 1974; As Amended; Addition of a New System of Records.

AGENCY: Office of Historical Trust Accounting (OHTA).

ACTION: Proposed addition of a new Privacy Act system of records.

SUMMARY: In accordance with the Privacy Act of 1974 (5 U.S.C. 552a), the Office of Historical Trust Accounting of the Department of the Interior is issuing public notice of its intent to add a new Privacy Act system of records: Interior, OS-11, “Accounting Reconciliation Tool (ART).”

DATES: Comments must be received by September 9, 2008.

ADDRESSES: Any persons interested in commenting on this proposed addition of a new system of records may do so by submitting comments in writing to the Office of the Secretary Acting Privacy Act Officer, Linda S. Thomas, U.S. Department of the Interior, MS-116 SIB, 1951 Constitution Avenue, NW., Washington, DC 20240, or by e-mail to Linda_Thomas@nbc.gov.

FOR FURTHER INFORMATION CONTACT: Chief Information Officer, Office of Historical Trust Accounting, 1801 Pennsylvania Ave., NW., Suite 500, Washington, DC 20006.

SUPPLEMENTARY INFORMATION: This Office of Historical Trust Accounting (OHTA) is proposing to add a new Privacy Act system of records notice, OS-11, “Accounting Reconciliation Tool” (ART). ART supports the work of OHTA to analyze the historical collection, distribution, and disbursement of income from Indian trust land and other revenue sources, and to provide historical statements of account to the account holders of the Individual Indian Money (IIM) Trust Fund. This work is necessary to carry out the Secretary's fiduciary responsibilities under the American Indian Trust Fund Management Reform Act of 1994, Pub. L. 103-412, 108 Stat. 4239. Towards that end, ART will be effective as proposed at the end of the comment period unless comments are received that require a contrary determination. The Department will publish a revised notice if changes are made based upon a review of comments received.

Dated: July 25, 2008.
Bert T. Edwards,
Executive Director, Office of Historical Trust Accounting.

SYSTEM NAME:

Interior, OS-11, “Account Reconciliation Tool (ART).”

SYSTEM LOCATION:

(1) U.S. Department of the Interior, Office of Historical Trust Accounting, 1801 Pennsylvania Ave., NW., Suite 500, Washington, DC 20006.

(2) U.S. Department of the Interior, Office of Historical Trust Accounting, American Indian Records Repository, 17501 West 98th Street, Lenexa, KS 66219.

(3) Office of contractors analyzing IIM Trust Fund accounts under contract to OHTA.

CATEGORIES OF INDIVIDUALS COVERED BY THE SYSTEM:

Individual Indians who receive Historical Statements of Account prepared by the DOI's Office of Historical Trust Accounting (OHTA) for account holders of the Individual Indian Money (IIM) Trust Fund.

CATEGORIES OF RECORDS IN THE SYSTEM:

Records may include an individual's name, aliases, gender, birth date, address, Social Security Number, IIM Trust Fund account number, tribal membership/enrollment number, and blood quantum.

Categories of records in the system include:

(1) Financial data pertaining to IIM Trust Fund accounts from the Trust Fund Accounting System (TFAS), the Trust Asset and Accounting Management System (TAAMS), the Integrated Records Management System (IRMS), the Land Record Information System (LRIS), the Payments, Claims and Enhanced Reconciliation (PACER) system, the Finance system, and the OMNI system.

(2) Data related to IIM Trust Fund account holder information.

(3) Imaged/paper records related to IIM Trust Fund accounts, including jacket folders, and financial documents such as accounting, reconciliation, and transaction data related to receipts, disbursements, investments, bonds, and transfers.

(4) Historical Statements of Account for account holders of the IIM Trust Fund.

AUTHORITY FOR MAINTENANCE OF THE SYSTEM:

25 U.S.C. 116, 117(a)(b)(c), 118, 119, 120, 121, 151, 159, 161(a), 162(a), 4011, 4043(b)(2)(B).

ROUTINE USES OF RECORDS MAINTAINED IN THE SYSTEM, INCLUDING CATEGORIES OF USERS AND THE PURPOSE OF SUCH USES:

The primary use of the records in the system is to enable the OHTA to analyze the historical collection, distribution, and disbursement of income from Indian trust land and other revenue sources, and to provide historical statements of account to the account holders of the IIM Trust Fund.

Disclosure outside of DOI may be made to:

(1)(a) To any of the following entities or individuals, when the circumstances set forth in paragraph (b) are met:

(i) The U.S. Department of Justice (DOJ).

(ii) A court or an adjudicative or other administrative body.

(iii) A party in litigation before a court or an adjudicative or other administrative body. or

(iv) Any DOI employee acting in his or her individual capacity if DOI or DOJ has agreed to represent that employee or pay for private representation of the employee.

(b) When:

(i) One of the following is a party to the proceeding or has an interest in the proceeding:

(A) DOI or any component of DOI.

(B) Any other Federal agency appearing before the DOI Office of Hearing and Appeals.

(C) Any DOI employee acting in his or her official capacity.

(D) Any DOI employee acting in his or her individual capacity if DOI or DOJ has agreed to represent that employee or pay for private representation of the employee.

(E) The United States, when DOJ determines that DOI is likely to be affected by the proceeding. and

(ii) DOI deems the disclosure to be:

(A) Relevant and necessary to the proceeding, and

(B) Compatible with the purpose for which the records were compiled.

(2) To a congressional office, when there has been a written request from an individual who is the beneficiary of an IIM Trust Fund account for information from that account.

(3) To any criminal, civil, or regulatory law enforcement authority (whether Federal, state, territorial, local, tribal, or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To representatives of the National Archives and Records Administration to conduct records management inspections under the authority of 44 U.S.C. 2904 and 2906.

(6) To state and local governments and tribal organizations to provide information needed in response to a court order and/or discovery related to litigation, when the disclosure is compatible with the purpose for which the records were compiled.

(7) To an expert, consultant, or contractor (including employees of the contractor) of DOI, requiring access to these records on DOI's behalf to carry out the purposes of the system.

(8) To appropriate agencies, entities, and persons when:

(a) It is suspected or confirmed that the security or confidentiality of information in ART has been compromised; and

(b) DOI has determined that as a result of the suspected or confirmed compromise there is a risk of harm to economic or property interest, identity theft or fraud, or harm to the security or integrity of ART or other systems or programs (whether maintained by DOI or another agency or entity) that rely upon the compromised information; and

(c) The disclosure is made to such agencies, entities, and persons who are reasonably necessary to assist in connection with DOI's efforts to respond to the suspected or confirmed compromise and prevent, minimize, or remedy such harm.

(9) To the Office of Management and Budget during the coordination and clearance process in connection with legislative affairs as mandated by OMB Circular A-19.

(10) To the Department of the Treasury to recover debts owed to the United States.

(11) To the lineal descendant, heir, or devisee of a deceased individual covered by the system or to any other person entitled to the deceased's trust assets.

POLICIES AND PRACTICES FOR STORING, RETRIEVING, ACCESSING, RETAINING, AND DISPOSING OF RECORDS IN THE SYSTEM:

POLICIES:

Records are stored, retrieved, accessed, retained and disposed of in accordance with DOI Departmental Manual, Part 383, Chapters 1-13, DOI Privacy Act regulations at 43 CFR 2.45-2.79, the Indian Affairs Records Manual, and the Indian Affairs Records Schedule (IARS).

STORAGE:

Records are stored on paper and electronic storage media.

RETRIEVABILITY:

Records are retrieved using either:

(1) Identifiers linked to IIM Trust Fund account holders, such as name, Social Security Numbers, tribe, tribal enrollment, or census numbers, or

(2) Organizational links and identifiers such as account numbers, tribal codes, and IIM Trust Fund account codes.

SAFEGUARDS:

ART is maintained with controls meeting safeguard requirements identified in Departmental Privacy Act Regulations (43 CFR 2.51) for manual and automated records. Access to records in the system is limited to authorized personnel whose official duties require such access.

(1) Physical Security: Paper records are maintained in locked file cabinets and/or in secured rooms.

(2) Technical Security: Electronic records are maintained in conformity with Office of Management and Budget and Departmental guidelines reflecting the implementation of the Federal Information Security Management Act. Electronic data are protected through user identification, passwords, database permissions and software controls. These security measures establish different degrees of access for different types of users.

(3) Administrative Security: All DOI and contractor employees involved in any and all trust activities are required to complete Privacy Act, Records Management and Security Awareness trainings. The trainings are completed before an employee is permitted access to any trust data. Trainings are implemented on an annual basis.

RETENTION AND DISPOSITION:

ART is scheduled for permanent retention.

SYSTEM MANAGER AND ADDRESS:

Information Technology Program Manager, Office of Historical Trust Accounting, 1801 Pennsylvania Ave., NW., Suite 500, Washington, DC 20006.

NOTIFICATION PROCEDURES:

To determine whether your records are in this Privacy Act system of records, write to the Information Technology Program Manager at the address listed above. Provide the following information with your request:

(1) Proof of your identity.

(2) List of all of the names by which you have been known, such as maiden name or alias(es).

(3) Mailing address.

(4) Tribe, IIM Trust Fund account number, tribal enrollment or census number.

(5) Time period(s) during which the records may have been created or maintained, to the extent known by you (See 43 CFR 2.60).

RECORDS ACCESS PROCEDURES:

To request access to your records, write to the Information Technology Program Manager at the address listed above. Provide the following information with your request:

(1) Proof of your identity.

(2) List of all of the names by which you have been known, such as maiden name or alias(es).

(3) Mailing address.

(4) Tribe, IIM Trust Fund account number, tribal enrollment or census number.

(5) Time period(s) during which records may have been created or maintained, to the extent known by you.

(6) Description or identification of the records you are requesting (including whether you are asking for a copy of all of your records or only a specific part of them) and the maximum amount of money that you are willing to pay for their copying. (See 43 CFR 2.63.)

CONTESTING RECORDS PROCEDURES:

To request an amendment of a record, write to the Information Technology Program Manager at the address listed above (See 43 CFR 2.71). Provide the following information with your request:

(1) Proof of your identity.

(2) List of all of the names by which you have been known, such as maiden name or alias(es).

(3) Mailing address.

(4) Tribe, IIM Trust Fund account number, tribal enrollment or census number.

(5) Time period(s) during which the records may have been created or maintained, to the extent known by you.

(6) Specific description or identification of the record(s) you are contesting and the reason(s) why you believe the record(s) are not accurate, relevant, timely, or complete.

(7) Copy of documents or evidence in support of (6) above.

RECORD SOURCE CATEGORIES:

(1) The following DOI components: Bureau of Indian Affairs, Office of Trust Funds Management, Office of the Special Trustee, Minerals Management Service, Bureau of Land Management, Office of Hearings and Appeals.

(2) Federal and state agencies.

(3) IIM Trust Fund account holders or their heirs. Depositors to and claimants against the accounts.

(4) Tribal offices, if the IIM function is contracted or compacted under the Indian Self-Determination and Education Assistance Act, Public Law 93-638, 88 Stat. 2203, as amended.

(5) Courts of competent jurisdiction, including tribal courts.

EXEMPTIONS CLAIMED FOR THE SYSTEM:

None.

[FR Doc. E8-17582 Filed 7-30-08; 8:45 am]

BILLING CODE 4310-10-P